DEPARTMENT OF DEFENSE

Department of the Army

Notice of Availability of Government-Owned Inventions; Available for Licensing

AGENCY: Department of the Army, DoD.

ACTION: Notice.

SUMMARY: The inventions listed below are assigned to the United States (U.S.) Government as represented by the Secretary of the Army and are available for licensing by the Department of the Army (DoA):

• U.S. Patent Number 7,812,366 entitled “Ultraviolet Light Emitting AlGaN Composition, and Ultraviolet Light Emitting Device Containing Same”, Inventors Sampath et al., Issue date October 12, 2010.

• U.S. Patent Number 8,564,014 entitled “Ultraviolet Light Emitting AlGaN Composition and Ultraviolet Light Emitting Device Containing Same”, Inventors Sampath et al., Issue date October 22, 2013.

• U.S. Patent 7,498,182 entitled “Method of Manufacturing an AlGaN Composition and Ultraviolet Light Emitting Device Containing Same”, Inventors Sampath et al., Issue Date March 3, 2009.

DATES: Request for supplemental information should be made prior to July 1, 2015.

ADDRESSES: Request for supplemental information, including licensing application packages and procedures should be directed to Austin Leach, Ph.D., 406-994-7707, austin.leach@montana.edu, TechLink, 2310 University Way, Building 2-2, Bozeman, MT 59715. TechLink is an authorized Department of Defense Partnership Intermediary per Authority 15 U.S.C. 3715.

FOR FURTHER INFORMATION CONTACT: U.S. Army Research Laboratory Technology Transfer Office, RDRL-DPP/Thomas Mulkern, Building 321, Room 110, Aberdeen Proving Ground, MD 21005-5425. Phone: (410) 278-0889. Email: ORTA@arl.army.mil.

SUPPLEMENTARY INFORMATION: The U.S. Army intends to move expeditiously to license these inventions. Licensing application packages are available from TechLink and all applications and commercialization plans must be returned to TechLink by August 14, 2015. TechLink will turn over all completed applications to the U.S. Army for evaluation by August 28, 2015, with final negotiations and awards occurring during the months of September and October, 2015. The U.S. Army will consider requests for nonexclusive, partially exclusive, and fully exclusive licenses in the U.S. and may prefer to grant an exclusive license to a company capable of broad commercialization as well as patent maintenance and enforcement within the U.S.

The DoA intends to ensure that its licensed inventions are broadly commercialized throughout the United States.

Brenda S. Bowen,
Army Federal Register Liaison Officer.

[FR Doc. 2015-12158 Filed 5-19-15; 8:45 am]

BILLING CODE 3710-08-P